DEPARTMENT OF ENERGY

International Energy Agency Meetings

AGENCY: Department of Energy.

ACTION: Notice of meetings.

SUMMARY: The Industry Advisory Board (IAB) to the International Energy Agency (IEA) will meet on March 26, 2025 and March 27, 2025, as a hybrid meeting via webinar and in person, in connection with a joint meeting of the IEA's Standing Group on Emergency Questions (SEQ) and the IEA's Standing Group on the Oil Market (SOM) which is scheduled at the same time via webinar and in person.

DATES: March 26, 2025 and March 27, 2025.

ADDRESSES: The location details of the SEQ and SOM webinar meeting are under the control of the IEA Secretariat, located at 9 rue de la Fédération, 75015 Paris, France. The in person meeting will take place at IEA Headquarters, 9 rue de la Fédération, 75015 Paris, France.

FOR FURTHER INFORMATION CONTACT: Mr. Matthew Zogby, Attorney Advisor in the Office of the Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings, which has been delayed due to unavoidable logistical issues, is provided:

A meeting of the Industry Advisory Board (IAB) to the International Energy Agency (IEA) will be held in person and via webinar at the IEA Headquarters, 9 rue de la Fédération, 75015 Paris, commencing at 9:30 a.m., Paris time, on March 26, 2025. The purpose of this notice is to permit attendance by representatives of U.S. company members of the IAB at a joint meeting of the IEA's Standing Group on Emergency Questions (SEQ) and the IEA's Standing Group on the Oil Market (SOM), which is scheduled to be held at the same location in person and via webinar at the same time.

The agenda of the meeting is under the control of the SEQ and the SOM. It is expected that the SEQ and the SOM will adopt the following agenda:

1. Adoption of the Agenda

2. Approval of Summary Record of meeting of 20 November 2024

3. Update on the Current Oil Market Situation

4. Reports on Recent Oil Market and Policy Developments in IEA and Association member countries

5. IEA Oil Day 2025—Workshop Summary

6. US Oil Landscape Under Second Trump Administration

7. Global Energy Review 2024

8. Recent oil and gas market development in Russia and near-term risks

9. G7 Price Caps and the assessment of Russian prices and freight rates

10. China recent developments and medium-term oil outlook

11. Update on plans for Summit on the Future of Energy Security

13. Any other business:

Date of next SOM/SEQ meetings:

—25-26 June 2025

—19-20 November 2025

A meeting of the Industry Advisory Board (IAB) to the International Energy Agency (IEA) will be held in person and via webinar at the IEA Headquarters, 9 rue de la Fédération, 75015 Paris, commencing at 9:30 a.m., Paris time, on March 27, 2025. The purpose of this notice is to permit attendance by representatives of U.S. company members of the IAB at a meeting of the IEA's Standing Group on Emergency Questions (SEQ), which is scheduled to be held at the same location in person and via webinar at the same time. The IAB will also hold an online preparatory meeting among company representatives at 2:00 p.m. Paris time on March 20, 2025. The agenda for this preparatory meeting is to review the agendas for the SEQ meeting.

The agenda of the SEQ meeting is under the control of the SEQ. It is expected that the SEQ will adopt the following agenda:

Closed SEQ Session—IEA Member Countries Only

1. Adoption of the Agenda

2. Approval of the Summary Record of the 179th SEQ meeting

3. Stockholding Levels of IEA Member Countries

4. Update on Implementation of Proposal for Changes to Institutional Structure for Energy Security

—Establishment of the Natural Gas and Sustainable Gases Security Working Party (GWP) Report on Data Task Force (DTF)

Open SEQ Session—Open to Association Countries

5. Questionnaire on Emergency Exercises in Member Countries

6. ERE2024—Survey Results

7. Mid-Term Review update from Australia

8. Emergency and Security Review (ESR) of Korea

9. Mid-Term Review update from Italy

10. Emergency and Security Review (ESR) of Netherlands

11. Mid-Term Review update from Norway

12. Update on Emergency and Security Work with Non-Member Countries

13. Industry Advisory Board Update

14. Update on Ongoing Work on Natural Gas Security

15. Update on Ongoing Work on Electricity Security

16. Any Other Business

Schedule of ESRs for 2025/26

Schedule of SEQ & SOM Meetings for 2025:

—25-26 June 2025

—19-20 November 2025

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on March 20, 2025, by Joshua Volz, Deputy Assistant Secretary for Europe, Eurasia, Africa and the Middle Eastm Office of International Affairs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, March 20, 2025.
Treena V. Garrett,
Federal Register Liaison Officer, U.S. Department of Energy.

[FR Doc. 2025-05047 Filed 3-25-25; 8:45 am]

BILLING CODE 6450-01-P